DEPARTMENT OF ENERGY

Environmental Management Advisory Board

AGENCY: Office of Environmental Management, Department of Energy.

ACTION: Notice of open meeting.

SUMMARY: This notice announces a meeting of the Environmental Management Advisory Board (EMAB). The Federal Advisory Committee Act requires that public notice of this meeting be announced in the Federal Register.

DATE: Tuesday, December 3, 2019; 8:30 a.m.-4:30 p.m.

ADDRESSES: Canopy by Hilton-The Wharf, 975 7th Street Southwest, Washington, District of Columbia 20024.

FOR FURTHER INFORMATION CONTACT: David Borak, EMAB Designated Federal Officer, U.S. Department of Energy, 1000 Independence Avenue SW, Washington, DC 20585; Phone: (202) 586-9928; email: david.borak@em.doe.gov.

SUPPLEMENTARY INFORMATION:

Purpose of the Board: The purpose of the Board is provide the Assistant Secretary for Environmental Management (EM) with advice and recommendations on corporate issues confronting the EM program. EMAB contributes to the effective operation of the program by providing individual citizens and representatives of interested groups an opportunity to present their views on issues facing EM and by helping to secure consensus recommendations on those issues.

Tentative Agenda Topics

○ Technology Development Update

○ Waste Disposition and Regulatory Affairs Update

○ Budget and Planning Update

○ Discussion of EMAB Subcommittee Report—Accelerating Cleanup Completion and Closure Across the EM Complex by Facilitating Workforce/Community Engagement and Transition

○ Public Comment

○ Board Business

Public Participation: The meeting is open to the public. The EMAB welcomes the attendance of the public at their advisory committee meetings and will make every effort to accommodate persons with physical disabilities or special needs. If you require special accommodations due to a disability, please contact David Borak at least seven days in advance of the meeting at the phone number listed above. Written statements may be filed either before or after the meeting with the Designated Federal Officer, David Borak, at the address or telephone listed above. Individuals who wish to make oral statements pertaining to agenda items should also contact David Borak. Requests must be received five days prior to the meeting and reasonable provision will be made to include the presentation in the agenda. The Designated Federal Officer is empowered to conduct the meeting in a fashion that will facilitate the orderly conduct of business. Individuals wishing to make public comment will be provided a maximum of five minutes to present their comments.

Minutes: Minutes will be available by writing or calling David Borak at the address or phone number listed above. Minutes will also be available at the following website: https://www.energy.gov/em/listings/emab-meetings.

Signed in Washington, DC, on November 7, 2019
LaTanya Butler,
Deputy Committee Management Officer.

[FR Doc. 2019-24650 Filed 11-12-19; 8:45 am]

BILLING CODE 6450-01-P